DEPARTMENT OF THE TREASURY

Internal Revenue Service

Quarterly Publication of Individuals Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending September 30, 2003. Names follow in order of: first name, middle name or initial (if applicable), and last name.

Eli Richard Selinkoff

Esther Codina

James Fowler Gossage

Catherine Donna Gossage

Megan Sara Colley

Alix DeBeistegui

Joseph Arthur Dlutowski

Sher May Lee

Audley Maduro

Jakob Miling

William E Peterson

Kenneth Andre Price

In Sik Kim

Jane Susan Reece

Yukio Nakajima

Kim Olivia Simmons

Clarence Rodney Tackett

Thomas Lawrence Thompson

Robert Leonard Towner

Derek Emory Ting Lap Yeung

Georges De La Haye Jousselin

Grace Junko Ehara

Carole Ann Rowland

Hamidullah Khan Burki

Gregory James Ryan

Jerry Jaroslav Krumlik

Patricia Barker

Margarete Gertude Raisch

Jeffrey Charles Friedman

Richard Ira Krasnoff

Cheryl Wei-Li Ma

Robert B Posey

Wayne Perry Siegel

Doris Verena Studer-Jeker

Misha Francine Voinov

Joseph Walter Burt

Janet Young Chang

Gabriele Ilse Hollmann

Giorgio Antonio Mannara

Martina Eleonore Willoughby

Sara Crisler Ahlefeldt-Laurvig

Deborah Elizabeth Zulliger

Verena Marie Butt

Jack Hentz Poppell

Hisahiko Hiroi

Nak Hee Laura Hyun

David Gerald Forbes-Jaeger

Otis Paul Johnson

Elise Susan Kaufman

Dong J Kim

Young Houn Kim

Sherry A Kreiger

Gail Ann Butterworth

Santiago De Escoriaza

Kyu Taek Lee

Frank William Burton

Selma Boeckle

Man Kay Wong

Peter G Barker

Wolfgang Bruno Kamecke

Arthur Soo Whan Lim

Elisabeth Margrethe Sirnes Lyngstad

Terri Lee Martin

Kyoung-Won Moon

Esmond Dale Muncrief

Hannah Paik

Seung-Hyun Daniela Paik

Hans Edward Prager

Brian David Rogers

Carole Anne Stewart

Frank Tanke-Hansen

James Chen Tsao

Suna Chung Han

Maud M Ljung-Lapychak

Maurice Bembridge

Pascal C Dornier

Michiko Ogawa Crounk

Mitsu Mullins

James Andrew Sands

Rashid Alexander Delgado

Helen Sueng Hyo Hong

Kaung Me Nielsen

Lutz Steinberg

James Patrick Flanagan

Jessica Railey

Mona Catherine Dailey Strand

Carrie Ruth Pretorius

Chingakham Prasanna Singh

Andrew Keith Warltier

Peter Ernest Becker

Barry Eyre

Charles Orin Berry

Thomas Keith Rowland

David Robert Bruns

Maureen Lisa Cronin

Gordon Alfred Geist

Marc James Giegerich

Xiao-Hui Hui

Joseph Anthony Imparato

Elfriede Marie Kamecke

Johnney Larry McKinney

Isolde Laukien

Ingvar Strom

Alfred Ernst Weber

Lonita Lenaire Wilson

John Robert Wurtz

Laurence Steven Buzer

Shivonne Baek

Susan Elizabeth Mary Baker

Terence Arnold Baker

Kim Anita Dailey Christoffersen

Carmen Dittrich

Deon Almeda Djoharian

Armin Wilbert Geertz

Momoyo Kuwahara

Dated: October 4, 2004.
Tracy Harmon,
Examination Operation, Philadelphia Compliance Services.

[FR Doc. 04-23596 Filed 10-20-04; 8:45 am]

BILLING CODE 4830-01-P